DEPARTMENT OF DEFENSE

Department of the Army

Availability of Government-Owned Inventions for Non-Exclusive, Exclusive, or Partially Exclusive Licensing

AGENCY: U.S. Army Soldier and Biological Chemical Command, Army, DoD.

ACTION: Notice.

SUMMARY: The inventions referenced below are Government-Owned inventions and are available for licensing in the U.S. in accordance with 37 CFR 404.6 and 35 U.S.C. 207.

Title: Transportable Glovebox and Fumehood.

Inventors: Charles E. Henry, Monica J. Heyl, Dennis J. Reutter

A self-contained and transportable apparatus that can be used for physical examination of unknown materials of possible toxic or harmful nature for analytical screening and classification. The apparatus is designed to be flexible in its configuration so that it can run as a chemical fume safety cabinet or even as a class II biological safety cabinet if the results of tests run therein indicate that alternative configurations are optimal for additional operations.

Title: Glovebox and Filtration System for Mobile Van.

Inventors: Charles E. Henry, Monica J. Heyl, Dennis J. Reutter

A self-contained and transportable apparatus that can be used for physical examination of unknown materials of possible toxic or harmful nature for analytical screening and classification. The apparatus of this invention is designed for use in a mobile van that can be driven to an incident site or parked during an event where such capability may be needed.

FOR FURTHER INFORMATION CONTACT: Mr. Roy Albert, Technology transfer Office, U.S. Army SBCCOM, ATTN: AMSSB-RAS-C, 5183 Blackhawk Road (Bldg E3330/245), APG, MD 21010-5423, Phone: (410) 436-4438 or E-mail: rcalbert@sbccom.apgea.army.mil

SUPPLEMENTARY INFORMATION: None.

Gregory D. Showalter,
Army Federal Register Liaison Officer.

[FR Doc. 00-1376 Filed 1-19-00; 8:45 am]

BILLING CODE 3710-08-M